FEDERAL COMMUNICATIONS COMMISSION

Public Information Collections Approved by Office of Management and Budget

September 19, 2001.

The Federal Communications Commission (FCC) has received Office of Management and Budget (OMB) approval for the following public information collections pursuant to the Paperwork Reduction Act of 1995, Public Law 104-13. An agency may not conduct or sponsor and a person is not required to respond to a collection of information unless it displays a currently valid control number. For further information contact Shoko B. Hair, Federal Communications Commission, (202) 418-1379.

Federal Communications Commission

OMB Control No.: 3060-0715.

Expiration Date: 09/30/2004.

Title: Implementation of the Telecommunications Act of 1996: Telecommunications Carriers' Use of Customer Proprietary Network Information (CPNI) and Other Customer Information, CC Docket No. 96-115.

Form No.: N/A.

Respondents: Business or other for-profit.

Estimated Annual Burden: 6832 respondents; 89.8 hour per response (avg.); 613,616 total annual burden hours.

Estimated Annual Reporting and Recordkeeping Cost Burden: $229,520,000.

Frequency of Response: On occasion; Recordkeeping; Third Party Disclosure.

Description: The following collections implement the statutory obligations of section 222 of the Telecommunications Act of 1996: (a) Customer Approval: If carriers choose to use CPNI to market service offerings outside the customer's existing service, they must obtain customer approval. See 47 CFR 64.2005 and 64.2007. (No. of respondents: 4832; hours per response: 39 hours; total annual burden: 188,448 hours). Customer Approval Documentation and Recordkeeping: Telecommunications carriers must implement a system by which the status of a customer's CPNI approval can be clearly established prior to the use of CPNI. See 47 CFR 64.2007(e) and 64.2009. (No. of respondents: 4832; hours per response: 30 minutes; total annual burden: 2416 hours). c. Notification of CPNI Rights:

All telecommunications carriers that choose to solicit customer approval must provide their customers a one-time notification of their CPNI rights prior to any such solicitation. See 47 CFR 64.2007(f). (No. of respondents: 4832; hours per response: 78 hours; total annual burden: 376,896 hours). d. Notification Recordkeeping: Pursuant to the one-time notification requirement, carriers must maintain a record of such notifications. Carriers must maintain such records for a period of at least one year. See 47 CFR 64.2007(e). (No. of respondents: 4832; hours per response: 30 minutes: total annual burden: 2416 hours). e. Event Histories

Recordkeeping: Telecommunications carriers must establish a supervisory review process regarding carrier compliance with the rules in 47 CFR part 64 for outbound marketing situations. See 47 CFR 64.2009(c) and (d). (No. of respondents: 4832; hours per response: 15 minutes; total annual burden: 1208 hours). f. Compliance Certification: All telecommunications carriers must obtain on an annual basis a certification signed by a current corporate officer attesting that he or she has personal knowledge that the carrier is in compliance with the Commission's rules, and to create an accompanying statement explaining how the carriers are implementing the rules and safeguards. See 47 CFR 64.2009. (No. of respondents: 4832; hours per response: 1 hours; total annual burden: 4832 hours). g. Aggregate Customer Information Disclosure Requirements for Local Exchange Carriers (LECs):

LECs must disclose aggregate customer information to others upon request, when they use or disclose the aggregate customer information for marketing service to which the customer does not subscribe. (No. of respondents: 1400; hours per response: 1 hour; total annual burden: 1400 hours). h. CPNI Disclosure to Third Parties: Section 222(c)(2) requires carriers, when presented with a customer's affirmative written request, to provide that customer's CPNI to any person designated in the written authorization. (No. of respondents: 500; hours per response: 5 hours; total annual burden; 2500 hours). i. Subscriber List Information Disclosure Requirement for Providers of Telephone

Exchange Service: Telecommunications carriers that provide telephone exchange service must provide subscriber list information gathered in its capacity as a provider of such service on a timely and unbundled basis, under nondiscriminatory and reasonable rates, terms, and conditions, to any person upon request for the purpose of publishing directories in any format. See 47 CFR 64.2309. (No. of respondents; 2000; hours per response: 10 hours; total annual burden: 20,000 hours). j. Notifications: A carrier must provide subscriber list information at the time requested by the directory

publisher, provided that the directory publisher has given at least thirty days advance notice and the carrier's internal systems permit the request to be filled with that time frame. See 47 CFR 64.2313, 64.2317, and 64.2329. (No. of respondents: 500; hours per response: 5 hours; total annual hours: 2500 hours). k. Cost Study: In the event a directory publishers files a complaint regarding a carrier's subscriber list information rates, the carrier must present a cost study providing credible and verifiable cost data to justify each challenged rates. (No. of respondents: 100; hours per response: 100 hours; total annual hours: 10,000 hours). l. Certification: A telecommunications carrier may require a person requesting subscriber list information pursuant to section 222(e) of the Communications Act or section 64.2309 to certify that the publisher will use the information only for purposes of publishing a directory. The certification may be either oral or written, at the carrier's option. See 47 CFR 64.2337.

(No. of respondents: 2000; hours per response: .5 hours; total annual burden: 1000 hours). m. Disclosure of Contracts, Rates, Terms, and Conditions and Recordkeeping: A telecommunications carrier must retain, for at least one year after its expiration, each written contact that it has executed for the provision of subscriber list information for directory publishing purposes to itself, an affiliate, or an entity that publishes directories on the carrier's behalf. A telecommunications carrier must maintain, for at least one year after the carrier provides subscriber list information for directory publishing purposes to itself, an affiliate, or an entity that publishes directories on the carrier's behalf, records of any of its rates, terms, and conditions for providing that subscriber list information which are not set forth in a written contract. These records and contracts shall be made available to the Commission and to any directory publisher upon request. See 47 CFR 64.2341. (No. of respondents: 2000; hours per response: 1 hour; total annual burden: 2000 hours). All of the collections are used to ensure that telecommunications carriers comply with the requirements the Commission promulgates in its rules and orders and to implement section 222 of the statute. Obligation to respond: Mandatory.

OMB Control No.: 3060-0971.

Expiration Date: 09/30/2004.

Title: Numbering Resource Optimization, Second Report and Order, Order on Reconsideration in CC Docket No. 96-98 and CC Docket No. 99-200, and Second Further Notice of Proposed Rulemaking.

Form No.: N/A.

Respondents: State, Local or Tribal Government; Business or other for-profit.

Estimated Annual Burden: 2050 respondents; 6.82 hour per response (avg.); 14,000 total annual burden hours.

Estimated Annual Reporting and Recordkeeping Cost Burden: $0.

Frequency of Response: On occasion; Third Party Disclosure.

Description: In the Second Report and Order in CC Dockets 96-98 and 99-200, the Commission requires carriers that report forecast and utilization data semi-annually to North American Numbering Plan Administrator (NANPA) or the Pooling Administrator to duplicate such request for state commissions upon request. (No. of respondents: 50; hours per response: 30 hours per state; total annual burden: 1500 burden hours). In addition, to request a “for cause” audit of a carrier, the NANPA, the Pooling Administrator or a state commission must draft a request to the auditor stating the reason for the request, such as misleading or inaccurate data, and attach supporting documentation. (No. of respondents: 2000; hours per response: 6.25 hours; total annual burden: 12,500 burden hours). The information collected will be used by the FCC, state commissions, the NANPA and the Pooling Administrator to verify the validity and accuracy of such data and to assist state commissions in carrying out their numbering responsibilities such as area code relief. Obligation to respond: Mandatory.

Public reporting burden for the collections of information are as noted above. Send comments regarding the burden estimates or any other aspect of the collections of information, including suggestions for reducing the burden to Performance Evaluation and Records Management, Washington, DC 20554.

Federal Communications Commission.
Magalie Roman Salas,
Secretary.

[FR Doc. 01-24135 Filed 9-26-01; 8:45 am]

BILLING CODE 6712-01-P